DEPARTMENT OF THE INTERIOR

National Park Service

Notice of Intent To Issue a Temporary Concession Contract for Raft Float Trips and Limited Visitor Services at Willow Beach Site Within Lake Mead National Recreation Area

SUMMARY: Pursuant to the National Park Service Concessions Management Improvement Act of 1998, notice is hereby given that the National Park Service intends to issue a temporary concession contract authorizing continued operation of raft float trips from below Hoover Dam to the public, and provide limited visitor service at Willow Beach Site within Lake Mead National Recreation Area. The temporary concession contract will be for a team of not more than three years. This short-term concession contract is necessary to avoid interruption of visitor services while the National Park Service finalizes the development of the Prospectus to be issued for a long-term concession contract. This short-term contract will be for a three-year period ending December 31, 2004. This notice is pursuant to 36 CFR part 51, section 51.24(a).

SUPPLEMENTARY INFORMATION: The concession authorization at Lake Mead National Recreation Area for the raft float trips expired on November 30, 2001. The operation is seasonal and operates primarily from February through November and provides visitors with an opportunity to take raft float trips from below Hoover Dam to a designated takeout point down lake from the dam on Lake Mohave. In addition, to the operation of the float trips limited visitor services will be conducted at Willow Beach Site. This service will be for those visitors who are disembarking from the float trips as well as those visitors who are recreating on the upper portion of Lake Mohave within Lake Mead National Recreation Area. Lake Mead National Recreation Area is in a process of reviewing its visitor services plan and developing a Prospectus for the solicitation of a long-term concession contract that meets the requirements of the park's General Management Plan regarding commercial services offered to the public. The short-term concession contract will allow for this action to take place without a long-term delay in service to the public.

Information about this notice can be sought from:

National Park Service, Chief, Concession Program Management Office, Pacific West Region, Attn: Mr. Tony Sisto, 1111 Jackson Street, Suite 700, Oakland, California 94607, or call (510) 817-1366.

Dated: January 30, 2002.
Patricia L. Neubacher,
Acting Regional Director, Pacific West Region.

[FR Doc. 02-4322 Filed 2-21-02; 8:45 am]

BILLING CODE 4310-70-M